DEPARTMENT OF THE INTERIOR

Fish and Wildlife Service

Notice of Availability of a Draft Environmental Impact Statement and Receipt of an Application for an Incidental Take Permit for the Agua Caliente Tribal Habitat Conservation Plan, Riverside County, California

AGENCY: Fish and Wildlife Service, Interior.

ACTION: Notice of availability and receipt of application.

SUMMARY: The Agua Caliente Band of Cahuilla Indians (Applicant) has applied to the U.S. Fish and Wildlife Service (Service) for an incidental take permit pursuant to section 10(a)(1)(B) of the Endangered Species Act of 1973, as amended (Act). The Service is requesting public comment on the Draft Agua Caliente Tribal Habitat Conservation Plan (THCP), Draft Implementing Agreement, and Draft Environmental Impact Statement (EIS). The Applicant is requesting a permit for 24 species, seven of which are currently listed as threatened or endangered under the Act. Of these 24 species, the Applicant requests a permit and assurances for 15 animal species that are not currently listed and assurances for two plant species. The permit is needed to authorize incidental take of listed animal species (including harm, injury, and harassment) due to development and certain other activities in the approximately 35,871-acre (56-square mile) Plan Area in the Coachella Valley of Riverside County, California.

DATES: Written comments must be received on or before January 10, 2008.

ADDRESSES: Send written comments to Mr. Jim Bartel, Field Supervisor, U.S. Fish and Wildlife Service, Carlsbad Fish and Wildlife Office, 6010 Hidden Valley Road, Carlsbad, California 92011. You may also submit comments by facsimile to 760-431-9624.

FOR FURTHER INFORMATION CONTACT: Ms. Therese O'Rourke, Assistant Field Supervisor, at the Carlsbad Fish and Wildlife Office above; telephone 760-431-9440.

SUPPLEMENTARY INFORMATION:

Availability of Documents

Documents available for public review include the permit application, the Public Review Draft THCP and Appendices, the accompanying Draft Implementing Agreement, and the Draft EIS.

Individuals wishing to obtain copies of the documents should contact the Service by telephone at 760-431-9440, or by letter to the Carlsbad Fish and Wildlife Office (see FOR FURTHER INFORMATION CONTACT). Copies of the Draft THCP, Draft EIS, and Draft Implementing Agreement also are available for public review, by appointment, during regular business hours at the Carlsbad Fish and Wildlife Office (see ADDRESSES) or at the Tribal Planning & Development Department Office, 777 East Tahquitz, Suite 301, Palm Springs, California 92262. Copies are also available for viewing on the Internet at http://www.aguacaliente.org and in the Palm Springs, Rancho Mirage, Cathedral City branch, and Desert Hot Springs public libraries:

(1) Palm Springs City Library: 300 South Sunrise Way, Palm Springs, CA 92262.

(2) Rancho Mirage Public Library: 71100 Highway 111, Rancho Mirage, CA 92270.

(3) Cathedral City Branch Library: 33520 Date Palm Drive, Cathedral City, CA 92234.

(4) Desert Hot Springs Branch Library: 11691 West Drive, Desert Hot Springs, CA 92240.

Background Information

Section 9 of the Act and Federal regulation prohibit the “take” of fish and wildlife species federally listed as endangered or threatened. Take of federally listed fish or wildlife is defined under the Act to include kill, harm, or harass. Harm includes significant habitat modification or degradation that actually kills or injures listed wildlife by significantly impairing essential behavioral patterns, including breeding, feeding, and sheltering (50 CFR 17.3(c)). Under limited circumstances, the Service may issue permits to authorize incidental take; that is, take that is incidental to, and not the purpose of, otherwise lawful activity. Although take of plant species is not prohibited under the Act, and therefore cannot be authorized under an incidental take permit, plant species are proposed to be included on the permit in recognition of the conservation benefits provided to them under the THCP. Regulations governing incidental take permits for threatened and endangered species are found in 50 CFR 17.22 and 17.32, respectively.

The applicant seeks an incidental take permit for 24 species, nine of which are currently listed as threatened or endangered under the Act. Proposed covered species include four wildlife species listed as endangered under the Act [Peninsular bighorn sheep (Ovis canadensis nelsoni), least Bell's vireo (Vireo bellii pusillus), southwestern willow flycatcher (Empidonax traillii extimus), and mountain yellow-legged frog (Rana muscosa)], three wildlife species listed as threatened under the Act [California red-legged frog (Rana aurora draytonii), desert tortoise (Gopherus agassizii), and Coachella Valley fringe-toed lizard (Uma inornata)], and two plant species listed as endangered under the Act [triple-ribbed milk-vetch (Astragalus tricarinatus) and Coachella Valley milk-vetch (Astragalus lentiginosus coachellae)]. Proposed covered species also include 15 wildlife species that are not currently listed under the Act: summer tanager (Piranga rubra cooperi), yellow-breasted chat (Icteria virens), yellow warbler (Dendroica petechia brewstri), southern yellow bat (Lasiurus ega (xanthinus)), burrowing owl (Athene cunicularia), grey vireo (Vireo vicinior), Coachella giant sand-treader cricket (Macrobaentes valgum), flat-tailed horned lizard (Phrynosoma mcalli), Palm Springs pocket mouse (Perognathus longimebris bangsi), Palm Springs (Coachella Valley round-tailed) ground squirrel (Spremophilus tereticaudus var. coachellae), Cochella giant sand treader cricket (Macrobentes valgum), Coachella Valley Jerusalem criket (Stenopelmatus cahuilaensis), Le Conte's thrasher (Toxostoma lecontei), Crissal thrasher (Toxostoma crissali), Casey's June beetle (Dinacoma caseyi).

The THCP is intended to protect and sustain viable populations of native plant and animal species and their habitats in perpetuity through the creation of a reserve system, while accommodating continued economic development and quality of life for residents in the Plan Area. The 2000 U.S. Census determined that approximately 21,500 individuals are residents on the Reservation, with approximately 98 percent of those individuals living in the Plan Area's Valley Floor Conservation Area. An additional approximately 200 residents live within off-Reservation Target Acquisition Areas. Within the Plan Area and the surrounding incorporated areas of Palm Springs, Rancho Mirage, Cathedral City, and Desert Hot Springs as well as the unincorporated County of Riverside, the Southern California Area Government (SCAG) anticipates the growth rate over the next 30-year period (between 2000 and 2030) to average 129 percent between these areas.

The THCP Plan Area encompasses approximately 35,871 acres in the Coachella Valley within the vicinity of the following three incorporated cities: Cathedral City, Palm Springs, and Rancho Mirage. Specifically, the Plan Area encompasses sections of land in a checkerboard pattern with lands included in the Coachella Valley Area Government's draft Multiple Species Habitat Conservation Plan. The THCP Plan Area encompasses both Reservation (i.e., Tribal Trust Land, Allotted Trust Land, and Fee Land) and other off-Reservation lands held by the applicant and is one of three large habitat planning efforts in Riverside County.

As described in the Draft THCP and the Draft EIS, the proposed THCP would provide for the creation of a reserve system that protects and manages up to approximately 19,375 acres of habitat for the Covered Species. The proposed reserve system will be established from lands within the Plan Area as well as lands outside the current Plan Area (identified as the Action Area in the THCP) and within a priority system encompassing seven conservation areas that are either adjacent or linked by biological corridors. The acquisition program for the reserve system, involving conservation of a maximum of 19,375 acres, is anticipated to occur over the life of the permit. When completed, the reserve system will include core habitat for Covered Species, essential ecological processes, and biological corridors and linkages to provide for the conservation of the proposed Covered Species.

The THCP includes measures to avoid, minimize, and mitigate incidental take of the Covered Species, emphasizing project design modifications to protect both habitats and species' individuals where appropriate. A monitoring and reporting plan would gauge the Plan's success based on achievement of biological goals and objectives and would ensure that conservation keeps pace with development. The THCP also includes a management program, including adaptive management, which allows for changes in the conservation program if the biological species objectives are not met, or new information becomes available to improve the efficacy of the THCP conservation strategy. Covered Activities would include public and private development conducted by the applicant, Tribal members, or non-Federal third parties within the Plan Area that requires certain ministerial and discretionary actions by the applicant subject to consistency with THCP policies.

The Draft EIS analyzes three other alternatives in addition to the proposed THCP Preferred Project Alternative described above including: A No Action Alternative in which the applicant and Bureau of Indian Affairs would continue to seek incidental take authorizations on a project-by-project basis, as necessary, resulting in a piece-meal approach to habitat conservation; an alternative that includes implementing the 2002-approved THCP without a section 10(a) permit resulting in less conservation; and, an expanded conservation alternative that includes additional Peninsular bighorn sheep habitat impact avoidance.

Public Comments

The Service and the applicant invite the public to comment on the Draft THCP, Draft Implementing Agreement, and Draft EIS during a 90-day public comment period beginning the date of this notice. Before including your address, phone number, e-mail address, or other personal identifying information in your comment, you should be aware that your entire comment—including your personal identifying information—may be made publicly available at any time. While you may ask us in your comment to withhold your personal identifying information from public review, we cannot guarantee that we will be able to do so.

This notice is provided pursuant to section 10(a) of the Act and Service regulations for implementing the National Environmental Policy Act (NEPA). The Service will evaluate the application, associated documents, and comments submitted thereon to prepare a Final to the draft EIS. A permit decision will be made no sooner than 30 days after the publication of the Final EIS and completion of the Record of Decision.

Dated: October 2, 2007.
Ken McDermond,
Deputy Manager, California/Nevada Operations Office, Sacramento, California.

[FR Doc. E7-19852 Filed 10-11-07; 8:45 am]

BILLING CODE 4310-55-P